DEPARTMENT OF TRANSPORTATION

Federal Highway Administration

Notice of Final Federal Agency Actions on Proposed Highway in California; Statute of Limitations on Claims

AGENCY: Federal Highway Administration (FHWA), Department of Transportation (DOT).

ACTION: Notice of Limitation on Claims for Judicial Review of Actions by the California Department of Transportation (Caltrans).

SUMMARY: The FHWA, on behalf of Caltrans, is issuing this notice to announce Caltrans' adoption of the Maritime Administration's (MARAD) Combined Final Environmental Impact Statement/Record of Decision and Final Section 4(f) Evaluation, (FEIS/ROD) for the Port of Long Beach (POLB or Port) Pier B On-Dock Rail Support Facility Project (Project).

The Final EIS and ROD for the Pier B On-Dock Rail Support Facility Project were approved by MARAD on April 7, 2022. MARAD's Notice of Availability for the Final EIS and ROD was published in the Federal Register on April 15, 2022. Under 49 U.S.C. 304a(b), MARAD issued a single Final EIS and ROD (USEPA, 2022). Therefore, the 30-day wait/review period under the National Environmental Policy Act (NEPA) did not apply to the action (Federal Register, 2022).

Pursuant to 40 CFR 1506.3(b)(2), Caltrans was a cooperating agency on this project. Therefore, recirculation of the document is not necessary under Section 1506.3(c) of the Council on Environmental Quality (CEQ) regulations.

DATES: By this notice, the FHWA, on behalf of Caltrans, is advising the public of final agency actions subject to 23 U.S.C. 139(l)(1). A claim seeking judicial review of the Federal agency actions on the highway project will be barred unless the claim is filed on or before May 5, 2023. If the Federal law that authorizes judicial review of a claim provides a time period of less than 150 days for filing such claim, then that shorter time period still applies.

FOR FURTHER INFORMATION CONTACT: For Caltrans: For Caltrans District 7: Michael Enwedo, Branch Chief, Division of Environmental Planning, California Department of Transportation-District 7, 100 S Main Street, Los Angeles, CA 90012. Office Hours: 8 a.m.-5 p.m., Pacific Standard Time, Telephone: (213) 335-0060 or Email: michael.enwedo@dot.ca.gov.

SUPPLEMENTARY INFORMATION: Subsequent to MARAD's ROD issued for the entire Pier B On-Dock Rail Support Facility Project, pursuant to 40 Code of Federal Regulations (CFR) 1505.2 and 23 CFR 771.127 Caltrans issued a ROD for the Pier B Street Freight Corridor Reconstruction Project on November 9th, 2022, which is a component of the Pier B On-Dock Rail Support Facility Project. Caltrans is a cooperating agency for the Pier B On-Dock Rail Support Facility Project. This ROD is solely for Caltrans approval of the Pier B Street Freight Corridor Reconstruction Project.

The Pier B Street Freight Corridor Reconstruction Project scope includes the following:

• Pier B Street: Realignment of Pier B St between Pico Av and Anaheim St and widening into two lanes in each direction to improve goods movement mobility and enhance pedestrian travel. The realignment of Pier B Street would require the reconstruction of two intersections, at Anaheim Way and Edison Avenue.

• 9th Street Crossing: The existing at-grade 9th Street railroad grade crossing would be closed. After the intersection with 9th street is closed, access to Interstate (I-) 710 would remain open at Pico Avenue, where the existing ramp at the 9th Street/Pico Avenue intersection is located. Access to Anaheim Street would be shifted to Anaheim Way and Farragut Avenue at the western end of Pier B Street.

• Removal of Shoemaker Ramps: The Shoemaker ramps and approaches would be removed. The Shoemaker north approach and the 9th Street bridge north approach would be demolished.

• Pico Avenue: Pico Avenue is located within a narrow corridor 1 between I-710 and several buildings, terminals, and ramps. Pico Avenue would be realigned to the west from Pier B St/I-710 ramps south to approximately Pier D Street to accommodate the addition of our railroad tracks. The existing at-grade crossing at Pico Avenue/Pier D Street would be closed.

• Sidewalk: Construction of new sidewalk on the south side of Pier B St and along the west 7 side of Pico Ave.

(Catalog of Federal Domestic Assistance Program Number 20.205, Highway Planning and Construction. The regulations implementing Executive Order 12372 regarding intergovernmental consultation on Federal programs and activities apply to this program.)

Authority: 23 U.S.C. 139(l)(1).

Antonio Johnson,
Director, Planning, Environment and Right of Way, Federal Highway Administration, California Division.

[FR Doc. 2022-26495 Filed 12-5-22; 8:45 am]

BILLING CODE 4910-RY-P